DEPARTMENT OF ENERGY

Federal Energy Regulatory Commission

Combined Notice of Filings

Take notice that the Commission has received the following Natural Gas Pipeline Rate and Refund Report filings:

Docket Number: PR20-65-000.

Applicants: American Midstream (SIGCO Intrastate), LLC.

Description: Tariff filing per 284.123(e)+(g)/: American Midstream (SIGCO Intrastate), LLC Cancellation of SOC to be effective 6/17/2020.

Filed Date: 6/17/2020.

Accession Number: 202006175090.

Comments Due: 5 p.m. ET 7/8/2020.

284.123(g) Protests Due: 5 p.m. ET 8/17/2020.

Docket Number: PR20-66-000.

Applicants: Pacific Gas and Electric Company.

Description: Tariff filing per 284.123(b),(e)+(g): Revisions to Appendix A of Statement of Operating Conditions 2020 to be effective 10/1/2019.

Filed Date: 6/17/2020.

Accession Number: 202006175123.

Comments Due: 5 p.m. ET 7/8/2020.

284.123(g) Protests Due: 5 p.m. ET 8/17/2020.

Docket Number: PR20-58-001.

Applicants: Black Hills/Kansas Gas Utility Company, LLC.

Description: Tariff filing per 284.123(b), (e)/: Substitute Statement of Operating Conditions to be effective 4/16/2020.

Filed Date: 6/17/2020.

Accession Number: 202006175034.

Comments/Protests Due: 5 p.m. ET 7/1/2020.

Docket Number: PR20-32-000.

Applicants: Columbia Gas of Ohio, Inc.

Description: Pre-Arranged/Pre-Agreed (Stipulation and Agreement) Filing of Columbia Gas of Ohio, Inc. under PR20-32.

Filed Date: 6/12/2020.

Accession Number: 202006125260.

Comments/Protests Due: 5 p.m. ET 6/26/2020.

Docket Numbers: RP20-957-000.

Applicants: Golden Pass LNG Terminal LLC.

Description: Petition for Limited Waiver of Golden Pass LNG Terminal LLC under RP20-957.

Filed Date: 6/17/20.

Accession Number: 20200617-5060.

Comments Due: 5 p.m. ET 6/29/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2020.
Nathaniel J. Davis, Sr.,
Deputy Secretary.

[FR Doc. 2020-13629 Filed 6-23-20; 8:45 am]

BILLING CODE 6717-01-P